NATIONAL SCIENCE FOUNDATION

Advisory Committee for STEM Education; Notice of Meeting

In accordance with the Federal Advisory Committee Act (Pub. L. 92-463, as amended), the National Science Foundation (NSF) announces the following meeting:

Name and Committee Code: Advisory Committee for STEM Education (EDU) (#1119) (Hybrid Meeting).

Date and Time: November 15, 2023; 9:30 a.m.-5:30 p.m. (EST); November 16, 2023, 9:30 a.m.-2:00 p.m. (EST).

Place: National Science Foundation, 2415 Eisenhower Avenue, Room 3450, Alexandria, VA 22314.

Hybrid participation is for members and speakers only. Public participants may attend the meeting virtually, using https://nsf.zoomgov.com/webinar/register/WN_wP2IYrRAQMGMHxWh5v8Mfg.

All visitors must register at least 48 hours prior to the meeting. The final agenda for the meeting will be posted to: https://www.nsf.gov/edu/advisory.jsp.

Type of Meeting: Open.

Contact Person: Keaven Stevenson, Directorate Administrative Coordinator, Room C 11044, National Science Foundation, 2415 Eisenhower Avenue, Alexandria, VA 22314. Contact Information: (703) 292-8663/kstevens@nsf.gov.

Summary of Minutes: Minutes and meeting materials will be available on the EDU Advisory Committee website at https://www.nsf.gov/edu/advisory.jsp or can be obtained from Dr. Lee Zia, National Science Foundation, 2415 Eisenhower Avenue, Room C 11000, Alexandria, VA 22314; Telephone: (703) 292-8600; email: ehr_ac@nsf.gov.

Purpose of Meeting: To provide advice with respect to the Foundation's science, technology, engineering, and mathematics (STEM) education programming.

Agenda

Theme: A Time To Reflect, a Time To Progress

Wednesday, November 15, 2023, 9:30 a.m.-5:30 p.m. (EST)

• Opening

• Session 1: A Year in Review by EDU's Assistant Director

• Session 2: Broadening Participation in STEM in the Context of the New Legal Landscape

• Session 3: Reflecting Upon DEIA & NSF

• Session 4: Reflecting Upon STEM Education Priorities

• Session 5: Committee of Visitors for the Division on Research and Learning

Thursday, November 16, 2023, 9:30 a.m.-2:00 p.m. (EST)

• Opening

• Session 6: Further Reflection Upon Session 2

• Session 7: CEOSE Reflections: Making Visible the Invisible

• Preparation for Meeting with Director and Chief Operating Officer

• Meet with the Director and Chief Operating Officer

• Closing Session

Dated: October 13, 2023.
Crystal Robinson,
Committee Management Officer.

[FR Doc. 2023-23033 Filed 10-18-23; 8:45 am]

BILLING CODE 7555-01-P